DEPARTMENT OF DEFENSE

Office of the Secretary

Strategic Environmental Research and Development Program Scientific Advisory Board; Notice of Federal Advisory Committee Meeting

AGENCY: Under Secretary of Defense for Acquisition and Sustainment (USD(A&S)), Department of Defense (DoD).

ACTION: Notice of Federal Advisory Committee meeting.

SUMMARY: The DoD is publishing this notice to announce that the following Federal Advisory Committee meeting of the Strategic Environmental Research and Development Program (SERDP) Scientific Advisory Board (SAB) will take place.

DATES: SERDP SAB will hold a meeting open to the public. Day 1—Wednesday, October 11, 2023 from 9:00 a.m. to 4:15 p.m. (EST). Day 2—Thursday, October 12, 2023 from 9:00 a.m. to 2:35 p.m. (EST). Day 3—Friday, October 13, 2023 from 9:00 a.m. to 11:45 a.m. (EST).

ADDRESSES: The meeting will be accessible in person or by videoconference. The in-person meeting will be held at the Hilton Garden Inn, Reagan National Airport, 2020 Richmond Highway, Arlington, VA 22202. Information for accessing the videoconference is provided in SUPPLEMENTARY INFORMATION, “Meeting Accessibility”.

FOR FURTHER INFORMATION CONTACT: Dr. Kimberly Spangler, 571-372-6565 (voice), kimberly.y.spangler.civ@mail.mil (email). Mailing address is SERDP Office, 4800 Mark Center Drive, Suite 16F16, Alexandria, VA 22350-3605. Website: https://serdp-estcp.org/about. The most up-to-date changes to the meeting agenda can be found on the website.

SUPPLEMENTARY INFORMATION: Due to circumstances beyond the control of the Designated Federal Officer, the Strategic Environmental Research and Development Program Scientific Advisory Board was unable to provide public notification required by 41 CFR 102-3.150(a) concerning its October 11-13, 2023 meeting. Accordingly, the Advisory Committee Management Officer for the Department of Defense, pursuant to 41 CFR 102-3.150(b), waives the 15-calendar day notification requirement.

This meeting is being held under the provisions of chapter 10 of title 5 United States Code (U.S.C.) (commonly known as the “Federal Advisory Committee Act” or “FACA”), 5 U.S.C. 552b (commonly known as the “Government in the Sunshine Act”), and 41 CFR 102-3.140 and 102-3.150.

Availability of Materials for the Meeting: Additional information, including the agenda or any updates to the agenda, is available on the https://serdp-estcp.org/about.

Purpose of the Meeting: The purpose of the meeting is for the SERDP SAB to make recommendations regarding technologies, research, projects, programs, activities, and, if appropriate, funding within the scope of SERDP Fiscal Year (FY) 2024.

Agenda

Wednesday, October 11, 2023

• 9:00 a.m. Convene

• 9:05 a.m. SAB Strategy Session

• 9:35 a.m.—Statement of Need Overview: Detection, Localization, Classification, and Remediation of Military Munitions Underwater

• 9:45 a.m.—Improving Advanced Geophysical Classification Performance in the Marine Environment—SAB Discussion and Vote

• 10:45 a.m.—Phenomenology Enriched Learning for Imaging and Classification of Underwater Military Munitions—SAB Discussion and Vote

• 11:30 a.m.—Continual Learning Machines for Robust Underwater UXO Classification—SAB Discussion and Vote

• 1:15 p.m.—Statement of Need Overview: Installation Resilience Research: Theoretical Frameworks for Compound Threats

• 1:25 p.m.—Predicting Impacts of Species Loss on Ecosystem Resilience: An Experimental Test of a Novel Theoretical Framework—SAB Discussion and Vote

• 2:10 p.m.—Statement of Need Overview: Development of Improved Concentration Technologies for Treatment of Matrices Impacted by Per- and polyfluoroalkyl substances (PFAS)

• 2:20 p.m.—Novel Functionalization of Conventional Sorbents for Enhanced Selectivity and Improved Concentration of Ultrashort- and Short-Chain PFAS—SAB Discussion and Vote

• 3:20 p.m.—Statement of Need Overview: Improved Understanding of Destructive Treatment Processes for PFAS in the Subsurface

• 3:30 p.m.—A Novel In Situ Subsurface PFAS Destruction Strategy that Uses Ligand-Coordinated Zero-Valent Metals at Ambient Conditions—SAB Discussion and Vote

• 4:15 p.m.—Public Comment Period

• 4:30 p.m.—Adjourn for the Day

Thursday, October 12, 2023

• 9:00 a.m.—Convene

• 9:05 a.m.—Statement of Need Overview: Sustainable Energetics Synthesis and Preparation

• 9:10 a.m.—Designing a High-throughput Cell-based Screen for N- Oxygenase Engineering—SAB Discussion and Vote

• 10:00 a.m.—Statement of Need Overview: Biological Impacts to DoD Coating Performance

• 11:00 a.m.—Coating Deterioration: Impacts of Multi-Domain Biofilms and Preventative Measures—SAB Discussion and Vote

• 12:55 p.m.—Statement of Need Overview: Self-Assembly Behavior of PFAS Found in Soil and Groundwater at Aqueous Film-Forming Foam-Impacted Sites

• 1:05 p.m.—Mechanistic Investigation of Assembly and Stability of Supramolecular forms of PFAS on Environmentally Relevant Surfaces and Development of Surface Analytical Protocols—SAB Discussion and Vote

• 1:50 p.m.—Self-assembly of PFAS Mixtures in the Presence of Inorganic Ions and Hydrocarbon Surfactants During Wetting and Drying—SAB Discussion and Vote

• 2:35 p.m.—Public Comment Period

• 2:50 p.m.—Adjourn for the Day

Friday, October 13, 2023

• 9:00 a.m.—Convene

• 9:05 a.m.—Statement of Need Overview: Advanced Wildland Fire Research to Improve Military Land Use Efficiency

• 9:15 a.m.—Linking Smoke to Fire: The Effect of Burn Conditions on Fuel Availability, Smoke Production, and Atmospheric Processing—SAB Discussion and Vote

• 10:00 a.m.—Developing Detailed Emission Source Terms for Next-Generation Wildland Fire and Smoke Modeling Tools Using Improved Near-field Fire Measurements—SAB Discussion and Vote

• 11:00 a.m.—From Fuel to Smoke: Measuring and Modeling the Chemistry and Composition of the Prescribed Fire Flame and Near-Field Plume—SAB Discussion and Vote

• 11:45 a.m.—Public Comment Period

• 12:00 p.m.—Adjourn

Public Comment Period: Just before the adjourning of each day the chair of the board will ask those in the room and in the virtual meeting if there are any oral public comments. If there are, the chair will call on each person to speak. The individual will have up to 5 minutes to address the board. After oral comments are given any written comments will be read by the Designated Federal Officer.

Meeting Accessibility: Pursuant to 5 U.S.C. 1009(a) and 41 CFR 102-3.140 through 102-3.165, this meeting is open to the public. The meeting will be held in person and via videoconference. The in-person meeting will be held at the Hilton Garden Inn, Reagan National Airport, 2020 Richmond Highway, Arlington, VA 22202. Seating is on a first-come basis. If you wish to attend by videoconference you must register at this link: (https://www.zoomgov.com/meeting/register/vJIsdu2hqTIoHzPOyGGtXJoUg6vlLhw353c). Once registered, the web address and audio number will be provided. For purposes of transparency and attendance reporting you will be required to use your actual first name and last name as your username.

Special Accommodations: Individuals requiring special accommodations to access the public meeting should contact Dr. Kimberly Spangler at (571) 372-6565 (voice) no later than Friday October 13, 2023 (by 5:00 p.m. EST) so that appropriate arrangements can be made.

Written Statements: Pursuant to 41 CFR 102-3.140 and section 5 U.S.C. 1009(a)(3), interested persons may submit a written statement to the SERDP SAB. Individuals submitting a statement must submit their statement no later than 5:00 p.m. EST, Thursday, October 12, 2023 to kimberly.y.spangler.civ@mail.mil (email) or to (571) 372-6565 (voice). If a statement pertaining to a specific topic being discussed at the planned meeting is not received by Friday, October 13, 2023, prior to the meeting, then it may not be provided to, or considered by, the Committee during the October 11-13, 2023 meeting. The Designated Federal Officer, Dr. Kimberly Spangler will review all timely submissions with the SERDP SAB Chair and ensure such submissions are provided to the members of the SERDP SAB before the meeting.

Dated: October 10, 2023.
Natalie M. Ragland,
Alternate OSD Federal Register Liaison Officer, Department of Defense.

[FR Doc. 2023-22681 Filed 10-10-23; 4:15 pm]

BILLING CODE 6001-FR-P